DEPARTMENT OF ENERGY

Federal Energy Regulatory Commission

[Docket No. CP15-504-000]

Dominion Carolina Gas Transmission; Notice of Schedule for Environmental Review of the Columbia to Eastover Project

On May 29, 2015, Dominion Carolina Gas Transmission (Dominion) filed an application in Docket No. CP15-504-000 requesting a Certificate of Public Convenience and Necessity pursuant to Section 7(c) of the Natural Gas Act to construct and operate certain natural gas pipeline facilities. The proposed project is known as the Columbia to Eastover Project (Project), and would provide 18,000 dekatherms per day of firm transportation service to the existing International Paper Plant in Eastover, South Carolina.

On June 12, 2015, the Federal Energy Regulatory Commission (Commission or FERC) issued its Notice of Application for the Project. The notice informed agencies issuing federal authorizations of the requirement under EPAct 2005 section 313 to complete all necessary reviews and to reach a final decision on a request for a federal authorization within 90 days of the date of issuance of the Commission staff's Environmental Assessment (EA) for the Project. This Notice of Schedule identifies the Commission staff's planned schedule for the completion of the EA for the Project.

Schedule for Environmental Review

Issuance of EA—February 19, 2016

90-day Federal Authorization Decision Deadline—May 19, 2016

If a schedule change becomes necessary, additional notice will be provided so that the relevant agencies are kept informed of the Project's progress.

Project Description

For the Columbia to Eastover Project, Dominion would construct and operate approximately 28 miles of new 8-inch-diameter natural gas pipeline and new appurtenant facilities in Calhoun and Richland Counties, South Carolina.

Background

On July 16, 2015, the Commission issued a Notice of Intent to Prepare an Environmental Assessment for the Proposed Columbia to Eastover Project and Request for Comments on Environmental Issues (NOI). The NOI was sent to affected landowners; federal, state, and local government agencies; elected officials; environmental and public interest groups; Native American tribes; other interested parties; and local libraries and newspapers. The Commission received comments from the U.S. Fish and Wildlife Service, South Carolina Department of Natural Resources, Friends of the Congaree Swamp, McEntire Joint National Guard Base, Richland County Conservation Commission, Congaree Riverkeeper, and several landowners including Beckham Swamp LLC, Belle Grove LLC, and St. Matthews Church. In addition to general opposition to the Project, we received requests for minor and major reroutes of the pipeline to utilize more existing utility rights-of-way and a reduction in number and length of access roads. The primary environmental issues raised by the commentors are potential impacts on the following resources: sensitive fish species, the Cowasee Basin, specific archaeological sites, local tree farms, and recreation areas.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-504), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 11, 2015.
Nathaniel J. Davis, Sr.,
Deputy Secretary.

[FR Doc. 2015-31720 Filed 12-16-15; 8:45 am]

BILLING CODE 6717-01-P